DEPARTMENT OF STATE

[Public Notice 6151]

Notice of Receipt of Application for Presidential Permit for Border Facilities Related to the Frontera Juarez Pipeline and Notice of Intent To Prepare Environmental Assessment, and Notice of Flood Plain and Wetland Involvement

AGENCY: Department of State.

ACTION: Notice of Receipt of Application for Presidential Permit for Border Facilities Related to the Frontera Juarez Pipeline and Notice of Intent To Prepare Environmental Assessment, and Notice of Flood Plain and Wetland Involvement.

The Department of State has received an application from P.M.I. Services North America (“PMI”) for a Presidential permit, pursuant to Executive Order 13337 of April 30, 2004, to construct, connect, operate, and maintain facilities at the border for a 10.75-inch diameter liquid hydrocarbon (gasoline and diesel) pipeline at the U.S.-Mexico border near San Elizario, Texas, for the purpose of transporting gasoline and diesel between the United States and Mexico. PMI seeks this authorization in connection with its Frontera Juarez Pipeline Project (“Frontera”), which is designed to transport gasoline and diesel from the Longhorn Partners Pipeline Terminal in El Paso County, Texas, to the U.S.-Mexico border near San Elizario, Texas.

PMI is a corporation duly organized under the laws of the State of Delaware. PMI is a wholly-owned subsidiary of Mexican state oil company Petroleos Mexicanos (PEMEX). According to the description in PMI's application, the proposed new border crossing would consist of a 10.75-inch diameter pipeline installed under the Rio Grande via horizontal directional drilling, which would be buried to a minimum depth of five (5) feet below ground level or five (5) feet below lowest point of river crossing. The border crossing would be part of the Frontera Project, which would consist in the U.S. of 28 miles of 10.75-inch diameter pipeline from Longhorn Partners Pipeline Terminal in El Paso County, Texas, to the U.S.-Mexico border near San Elizario, Texas.

As required by E.O. 13337, the Department of State is circulating this application to concerned federal agencies for comment.

In accordance with Section 102(C) of the National Environmental Policy Act of 1969 (NEPA) (42 U.S.C. 4332(C)) and implementing regulations promulgated by the Council on Environmental Quality (40 CFR Parts 1500-1508) and the Department of State (22 CFR Part 161), including in particular 22 CFR 161.7(c)(1), the Department of State intends to prepare an environmental assessment (EA) to determine whether an environmental impact statement will be required for this application. The Department also intends to conduct consultations on possible impacts to traditional or cultural properties with interested Native American tribes under Section 106 of the Historic Preservation Act.

The purpose of this Notice of Intent is to inform the public about the proposed action and solicit public comments. As the proposed project may involve an action in a floodplain or wetland, the EA will include a floodplain and wetlands assessment and floodplain statement of findings.

Contact: For further information, to receive a CD-ROM copy of PMI's application, or to comment on the proposed project contact Elizabeth Orlando, OES/ENV Room 2657, U.S. Department of State, Washington, DC 20520, telephone 202-647-4284, facsimile 202-647-1052, e-mail orlandoea2@state.gov.

Issued in Washington, DC on March 19, 2008.
Stephen J. Gallogly,
Director, Office of International Energy and Commodity Policy, Department of State.

[FR Doc. E8-6206 Filed 3-25-08; 8:45 am]

BILLING CODE 4710-07-P